INTER-AMERICAN FOUNDATION

Sunshine Act Meetings

TIME AND DATE: November 9, 2020 11:30 a.m.-1:30 p.m.

PLACE: Via tele-conference.

STATUS: Meeting of the Board of Directors and Advisory Council, open to the public, portion closed to the public.

MATTERS TO BE CONSIDERED:

Approval of the Minutes from the May 4, 2020, Meeting of the Board of Directors

Agenda overview and President's Report

Management Report

New Business

Adjournment

PORTION TO BE CLOSED TO THE PUBLIC: Executive session closed to the public as provided for by 22 CFR 1004.4(b) & (f)

FOR DIAL-IN INFORMATION CONTACT: Karen Vargas, Executive Assistant & Board Liaison (202) 524-8869.

CONTACT PERSON FOR MORE INFORMATION: Aswathi Zachariah, General Counsel (202) 683-7118.

Aswathi Zachariah,
General Counsel.

[FR Doc. 2020-24172 Filed 10-28-20; 11:15 am]

BILLING CODE 7025-01-P